FEDERAL COMMUNICATIONS COMMISSION

[CC Docket Nos. 96-262, 91-213, DA 04-2250]

Reconsideration of Price Cap Carrier Reallocation of General Support Facilities Costs

AGENCY: Federal Communications Commission.

ACTION: Notice, termination of proceeding.

SUMMARY: This document provides notice of the termination of the petitions for reconsideration of a 1997 Commission order regarding the reallocation of costs of general purpose computers and other general support facilities to the billing and collection account for incumbent local exchange carriers subject to price cap regulation. The petitions for reconsideration have been withdrawn by the petitioners.

DATES: Effective September 9, 2004, unless the Wireline Competition Bureau receives an opposition to the termination prior to that date.

ADDRESSES: Oppositions to the proceeding termination should be mailed to the Commission's Secretary through the Commission's contractor, Natek, Inc., at 236 Massachusetts Avenue, NE., Suite 110, Washington, DC 20002.

FOR FURTHER INFORMATION CONTACT: Jennifer McKee, Wireline Competition Bureau, Pricing Policy Division, (202) 418-1530.

SUPPLEMENTARY INFORMATION: In the 1997 Access Charge Reform Third Report and Order, 62 FR 65619, December 15, 1997, the Commission reallocated costs of general purpose computers and other general support facilities (GSF) to the billing and collection account for incumbent local exchange carriers (LECs) subject to price cap regulation. SBC and U S West filed petitions for reconsideration of the order on January 14, 1998. On October 7, 2003, SBC withdrew its petition for reconsideration of the order, and on May 6, 2004, Qwest withdrew the petition for reconsideration filed by its predecessor, U S West. Based on SBC's and Qwest's requests to withdraw, these petitions for reconsideration are dismissed without prejudice, see 47 CFR 1.748. There are no pending petitions for reconsideration of this order. Therefore, the proceeding will be terminated effective September 9, 2004, unless the Wireline Competition Bureau receives an opposition to the termination before that date.

Parties opposing the termination of this proceeding may file an opposition pursuant to § 1.419 of the Commission's rules, 47 CFR 1.419. Comments may be filed using the Commission's Electronic Comment Filing System (ECFS) or by filing paper copies. Comments filed through the ECFS can be sent as an electronic file via the Internet to http://www.fcc.gov/cgb/ecfs/. Generally, only one copy of an electronic submission must be filed. If multiple docket or rulemaking numbers appear in the caption of the proceeding, commenters must transmit one electronic copy of the comments to each docket or rulemaking number referenced in the caption. In completing the transmittal screen, commenters should include their full name, U.S. Postal Service mailing address, and the applicable docket or rulemaking number, in this case, CC Docket Nos. 96-262 and 91-213. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

Filings can be sent by hand or messenger delivery, by commercial overnight courier, or by first-class or overnight U.S. Postal Service mail (although we continue to experience delays in receiving U.S. Postal Service mail).

The Commission's contractor, Natek Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

—U.S. Postal Service first-class mail, Express Mail, and Priority Mail should be addressed to 445 12th Street, SW., Washington, DC 20554.

All filings must be addressed to the Commission's Secretary, Marlene H. Dortch, Office of the Secretary, Federal Communications Commission, Room TW-A325, 445 12th Street, SW., Washington, DC 20554. Parties should also send a copy of their filings to Jennifer McKee, Pricing Policy Division, Wireline Competition Bureau, Federal Communications Commission, Room 5-A263, 445 12th Street, SW., Washington, DC 20554, or by e-mail to jennifer.mckee@fcc.gov. Parties shall also serve one copy with the Commission's copy contractor, Best Copy and Printing, Inc. (BCPI), Portals II, 445 12th Street, SW., Room CY-B402, Washington, DC 20554, (202) 488-5300, or via e-mail to fcc@bcpiweb.com.

Authority: 47 U.S.C. 152, 153, 154, 155, 303; 44 FR 18501, 67 FR 13223, 47 CFR 0.291, 1.749.

Federal Communications Commission.
William F. Maher, Jr.,
Chief, Wireline Competition Bureau.

[FR Doc. 04-18259 Filed 8-9-04; 8:45 am]

BILLING CODE 6712-01-P